DEPARTMENT OF THE INTERIOR

Fish and Wildlife Service

Notice of Availability of the Final Comprehensive Conservation Plans for the Five Refuges in the Rhode Island National Wildlife Refuge Complex

AGENCY: U.S. Fish and Wildlife Service, Department of the Interior.

ACTION: Notice of availability.

SUMMARY: The U.S. Fish and Wildlife Service (Service) announces that final comprehensive conservation plans (CCP) are available for each of the five refuges in the Rhode Island National Wildlife Refuge (NWR) Complex: Trustom Pond NWR, Block Island NWR, Sachuest Point NWR, Ninigret NWR, and John H. Chafee NWR at Pettaquamscutt Cove. These CCPs, prepared pursuant to the National Wildlife Refuge System Administration Act of 1966, as amended by the National Wildlife Refuge System Improvement Act of 1997 (16 U.S.C. 6688dd et seq.), and the National Environmental Policy Act of 1969, describe how the Service intends to manage these refuges over the next 15 years.

ADDRESSES: Copies of the CCPs are available on compact diskette or hard copy, and can be obtained by writing: Rhode Island NWR Complex, 3769D Old Post Road, Charlestown, Rhode Island, 02813, 401-364-9124. Copies of the CCPs can also be accessed and downloaded at the following Web site address: http://northeast.fws.gov/planning.

FOR FURTHER INFORMATION CONTACT: Charlie Vandemoer, Refuge Manager, at the address above, or Nancy McGarigal, Planning Team Leader, U.S. Fish and Wildlife Service, Northeast Regional Office, 300 Westgate Center Drive, Hadley, Massachusetts, 01035, (413) 253-8562.

SUPPLEMENTARY INFORMATION: A CCP is required by the National Wildlife Refuge System Administration Act of 1966, as amended by the National Wildlife Refuge System Improvement Act of 1997 (16 U.S.C. 6688dd et seq.). The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997 (16 U.S.C. 6688dd et seq.), and the National Environmental Policy Act of 1969.

Dated: September 9, 2002.
Dr. Mamie A. Parker,
Regional Director, U.S. Fish and Wildlife Service.

Note: This document was received at the Office of the Federal Register on May 15, 2003.

[FR Doc. 03-12630 Filed 5-19-03; 8:45 am]

BILLING CODE 4310-55-P